ENVIRONMENTAL PROTECTION AGENCY

[EPA-HQ-OPP-2020-0035; FRL-10006-36]

Pyridate; Receipt of Applications for Emergency Exemption, Solicitation of Public Comment

AGENCY: Environmental Protection Agency (EPA).

ACTION: Notice.

SUMMARY: EPA has received specific exemption requests from the Oregon and Washington State Departments of Agriculture, Office of the Indiana State Chemist and the Michigan Department of Agriculture and Rural Development for the use of pyridate (CAS No. 55512-33-9) for postemergence control of herbicide-resistant weeds such as redroot pigweed and other broadleaf weeds to treat up to 5,200 acres of mint (peppermint and spearmint) in Oregon, 16,000 in Washington, 11,200 acres in Indiana, and 1,250 acres in Michigan. The applicants propose the use of a pesticide that was voluntarily canceled in 2004 and is now considered to be unregistered under the Federal Insecticide, Fungicide, and Rodenticide Act (FIFRA). This notice is consistent with the requirements for an unregistered chemical. EPA is soliciting public comment before making the decision whether to grant these exemptions.

DATES: Comments must be received on or before April 23, 2020.

ADDRESSES: Submit your comments, identified by docket identification (ID) number EPA-HQ-OPP-2020-0035, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Michael Goodis, Director Registration Division (7505P), Office of Pesticide Programs, Environmental Protection Agency, 1200 Pennsylvania Ave. NW, Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticide(s) discussed in this document, compared to the general population.

II. What action is the agency taking?

Under section 18 of the FIFRA (7 U.S.C. 136p), at the discretion of the EPA Administrator, a Federal or State agency may be exempted from any provision of FIFRA if the EPA Administrator determines that emergency conditions exist which require the exemption. The Oregon Department of Agriculture (ODA), Washington State Department of Agriculture (WSDA), Office of the Indiana State Chemist (OISC) and the Michigan Department of Agriculture and Rural Development (MDARD) have requested the EPA Administrator to issue specific exemptions for the use of pyridate on mint for postemergence control of herbicide-resistant weeds such as redroot pigweed and other broadleaf weeds.

Information in accordance with 40 CFR part 166 was submitted as part of these requests. The applicants' submissions, which provide an explanation of the critical need for the emergency exemptions, as well as the proposed use pattern can be found in their section 18 emergency exemption application requests at http://www.regulations.gov, under the docket number EPA-HQ-OPP-2020-0035.

This notice does not constitute a decision by EPA on the applications themselves. The regulations governing FIFRA section 18 require publication of a notice of receipt for the specific exemption requests submitted by ODA, WSDA, OISC and MDARD because they propose the use of pyridate, which was voluntarily canceled in 2004 and is now unregistered under the FIFRA.

A PRIA section 3 application for this chemical and use is currently under review. This notice provides an opportunity for public comment on these applications. The Agency will review and consider all comments received during the comment period in determining whether to issue the specific exemptions requested by ODA, WSDA, OISC, and MDARD as well as any subsequent specific exemption applications submitted by other state lead agencies.

Authority: 7 U.S.C. 136 et seq.

Dated: March 20, 2020.
Michael Goodis,
Director, Registration Division, Office of Pesticide Programs.

[FR Doc. 2020-07318 Filed 4-7-20; 8:45 am]

BILLING CODE 6560-50-P